Proclamation 9813 of October 30, 2018

To Modify the List of Products Eligible for Duty-Free Treatment Under the Generalized System of Preferences

By the President of the United States of America

A Proclamation

1. Pursuant to section 503(c)(1) of the Trade Act of 1974, as amended (the “1974 Act”) (19 U.S.C. 2463(c)(1)), the President may withdraw, suspend, or limit application of the duty-free treatment that is accorded to specified articles under the Generalized System of Preferences (GSP) when imported from designated beneficiary developing countries.

2. Pursuant to section 503(c)(1) of the 1974 Act, and having considered the factors set forth in sections 501 and 502(c) of the 1974 Act (19 U.S.C. 2461 and 2462(c)), I have determined to withdraw the application of the duty-free treatment accorded to a certain article.

3. Section 503(c)(2)(A) of the 1974 Act (19 U.S.C. 2463(c)(2)(A)) subjects beneficiary developing countries, except those designated as least-developed beneficiary developing countries or beneficiary sub-Saharan African countries as provided in section 503(c)(2)(D) of the 1974 Act (19 U.S.C. 2463(c)(2)(D)), to competitive-need limitations on the duty-free treatment accorded to eligible articles under the GSP.

4. Pursuant to section 503(c)(2)(A) of the 1974 Act, I have determined that in 2017 certain beneficiary developing countries exported eligible articles in quantities exceeding the applicable competitive-need limitations. I hereby terminate the duty-free treatment for such articles from such beneficiary developing countries.

5. Section 503(d)(1) of the 1974 Act (19 U.S.C. 2463(d)(1)) provides that the President may waive the application of the competitive-need limitations in section 503(c)(2) of the 1974 Act with respect to any eligible article from any beneficiary developing country if certain conditions are met.

6. Pursuant to section 503(d)(1) of the 1974 Act, I have received the advice of the United States International Trade Commission on whether any industry in the United States is likely to be adversely affected by such waivers of the competitive-need limitations provided in section 503(c)(2) of the 1974 Act. I have determined, based on that advice and the considerations described in sections 501 and 502(c) of the 1974 Act, and having given great weight to the considerations in section 503(d)(2) of the 1974 Act (19 U.S.C. 2463(d)(2)), that such waivers are in the national economic interest of the United States. Accordingly, I have determined that the competitive-need limitations of section 503(c)(2) of the 1974 Act should be waived with respect to certain eligible articles from certain beneficiary developing countries.

7. Section 503(c)(2)(C) of the 1974 Act (19 U.S.C. 2463(c)(2)(C)) provides that a country that is no longer treated as a beneficiary developing country with respect to an eligible article may be redesignated as a beneficiary developing country with respect to such article, subject to the considerations set forth in sections 501 and 502 of the 1974 Act, if imports of such article from such country did not exceed the competitive-need limitations in section 503(c)(2)(A) of the 1974 Act during the preceding calendar year.

8. Pursuant to section 503(c)(2)(C) of the 1974 Act, and having taken into account the considerations set forth in sections 501 and 502 of the 1974 Act, I have determined to redesignate a certain country as a beneficiary developing country with respect to a certain eligible article that during the preceding calendar year had been imported in quantities not exceeding the competitive-need limitations of section 503(c)(2)(A) of the 1974 Act.

9. Section 604 of the 1974 Act (19 U.S.C. 2483) authorizes the President to embody in the Harmonized Tariff Schedule of the United States (HTS) the substance of the relevant provisions of the 1974 Act, and of other Acts affecting import treatment, and actions thereunder, including removal, modification, continuance, or imposition of any rate of duty or other import restriction.

NOW, THEREFORE, I, DONALD J. TRUMP, President of the United States of America, acting under the authority vested in me by the Constitution and the laws of the United States of America, including title V and section 604 of the 1974 Act, do hereby proclaim that:

(1) In order to provide that several countries should no longer be treated as beneficiary developing countries with respect to one or more eligible articles for purposes of the GSP, the Rates of Duty 1-Special subcolumn for the corresponding HTS subheadings and general note 4(d) to the HTS are modified as set forth in sections A, B, C, and D of Annex I to this proclamation.

(2) In order to redesignate a certain article as an eligible article for purposes of the GSP, the Rates of Duty 1-Special subcolumn for the corresponding HTS subheadings and general note 4(d) to the HTS are modified as set forth in sections E and F of Annex I to this proclamation.

(3) A waiver of the application of section 503(c)(2) of the 1974 Act shall apply to the eligible articles in the HTS subheadings exported by the beneficiary developing countries as set forth in Annex II to this proclamation.

(4) The modifications to the HTS set forth in Annexes I and II of this proclamation shall be effective with respect to articles entered for consumption, or withdrawn from warehouse for consumption, on or after 12:01 a.m. eastern daylight time on November 1, 2018.

(5) Any provisions of previous proclamations and Executive Orders that are inconsistent with the actions taken in this proclamation are superseded to the extent of such inconsistency.

IN WITNESS WHEREOF, I have hereunto set my hand this thirtieth day of October, in the year of our Lord two thousand eighteen, and of the Independence of the United States of America the two hundred and forty-third.

Billing code 3295-F9-P

[FR Doc. 2018-24032

Filed 10-30-18; 2:00 p.m.]

Billing code 7020-02-C